DEPARTMENT OF THE TREASURY

Internal Revenue Service

26 CFR Part 1

[TD 9521]

RIN 1545-BG54

Reduction of Foreign Tax Credit Limitation Categories Under Section 904(d); Correction

AGENCY: Internal Revenue Service (IRS), Treasury.

ACTION: Correction to final regulations.

SUMMARY: This document describes corrections to final regulations (TD 9521) that were published in the Federal Register on Thursday, April 7, 2011, providing guidance relating to the reduction of the number of separate foreign tax credit limitation categories under section 904(d) of the Internal Revenue Code.

DATES: This correction is effective on May 12, 2011, and is applicable on April 7, 2011.

FOR FURTHER INFORMATION CONTACT: Jeffrey L. Parry, (202) 622-3850 (not a toll-free number).

SUPPLEMENTARY INFORMATION:

Background

The final regulations that are the subject of this correction are under section 904 of the Internal Revenue Code.

Need for Correction

As published on Thursday, April 7, 2011 (76 FR 19268), final regulations (TD 9521) contain errors that may prove to be misleading and are in need of clarification.

Correction of Publication

Accordingly, the publication of the final regulations (TD 9521) which were the subject of FR Doc. 2011-8229 is corrected as follows:

1. On page 19268, column 2, in the preamble, under the paragraph heading “II. Losses in and Losses With Respect to the Pre-2007 Separate Category for High Withholding Tax Interest”, line 9 from the last paragraph of the column, the language “7T(g)(ii)) that offset U.S. source income” is corrected to read “7T(g)(1)(ii)) that offset U.S. source income”.

2. On page 19269, column 1, in the preamble, under the paragraph heading “II. Losses in and Losses With Respect to the Pre-2007 Separate Category for High Withholding Tax Interest”, the last sentence of first paragraph of the column, the language “The regulations have also been revised to clarify that, in the case of a financial services entity, to the extent an SLL in the post-2006 separate category for general category income is recaptured as income in the post-2006 separate category for passive category income, the amount that would otherwise be recaptured as passive income (as opposed to specified passive category income) will be recaptured as general category income.” is removed.

LaNita Van Dyke,
Chief, Publications and Regulations Branch, Legal Processing Division, Associate Chief Counsel (Procedure and Administration).

[FR Doc. 2011-11580 Filed 5-11-11; 8:45 am]

BILLING CODE 4830-01-P